DEPARTMENT OF HEALTH AND HUMAN SERVICES

Centers for Disease Control and Prevention

[30-Day-19-18AAE]

Agency Forms Undergoing Paperwork Reduction Act Review

In accordance with the Paperwork Reduction Act of 1995, the Centers for Disease Control and Prevention (CDC) has submitted the information collection request titled Barriers and Facilitators to Expanding the NHBS to Conduct HIV Behavioral Surveillance Among Transgender Women (NHBS-Trans) to the Office of Management and Budget (OMB) for review and approval. CDC previously published a “Proposed Data Collection Submitted for Public Comment and Recommendations” notice on May 29, 2018 to obtain comments from the public and affected agencies. The notice was entitled National HIV Behavioral Surveillance System Among Transgender Women (NHBS-Trans). CDC did not receive comments related to the previous notice. The current notice serves to allow an additional 30 days for public and affected agency comments. The project title has been revised to clarify project goals.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Barriers and Facilitators to Expanding the NHBS to Conduct HIV Behavioral Surveillance Among Transgender Women (NHBS-Trans)—New—National Center for HIV/AIDS, Viral Hepatitis, STD, and TB Prevention (NCHHSTP), Centers for Disease Control and Prevention (CDC).

Background and Brief Description

The National HIV Behavioral Surveillance System (NHBS, OMB No. 0920-0770, exp. 5/31/2020) is CDC's ongoing surveillance system to assess HIV prevalence and factors associated with HIV among populations at high risk for HIV. NHBS has a 15-year record of successfully reaching and recruiting hidden populations, with a focus on men who have sex with men, injection drug users, and heterosexuals at high risk of HIV infection.

CDC requests OMB approval to conduct a two-year pilot study to examine the feasibility of extending the NHBS's proven surveillance framework to include transgender (TG) women, a hidden subpopulation with a disproportionately high burden of HIV. Information will be collected in nine geographically diverse U.S. Metropolitan Statistical Areas (MSAs) with high HIV prevalence: Atlanta, GA, Dallas, TX, Los Angeles, CA, New Orleans, LA, New York, NY, Philadelphia, PA, San Francisco, CA, Seattle, WA, and Washington, DC. Together these sites accounted for over 33% of all persons living with HIV at year end 2014 in large (>500,000 residents) MSAs. All NHBS-Trans sites currently participate in the NHBS and are familiar with its protocols for respondent recruitment, information collection, HIV testing, and referral to services.

The NHBS-Trans pilot study will use customized NHBS instruments, sampling and recruitment methods to assess barriers to, and best strategies for, conducting HIV-related bio-behavioral surveys among transgender women. Information will be collected on HIV risk behaviors, gaps in services, barriers to service, and other experiences of transgender women from racial and ethnic minority populations. Potential participants will be identified through respondent-driven recruitment methods, also called peer-based recruitment.

During the two-year information collection period, each NHBS-Trans site will recruit 200 respondents for a computer-assisted personal interview. The proposed respondents are adult minority transgender women. After completing the 40-minute interview, each respondent will be offered a free, rapid HIV test. Respondents will also be asked to participate in short debriefing interviews about their experiences with recruiting additional participants. The debriefing interviews will help CDC understand the reasons why eligible transgender women choose not to participate in the NHBS-Trans pilot study.

Over the two-year pilot period, the target number of completed interviews for all sites is 1,800 (200 per site). CDC estimates that 1,980 individuals must be screened in order to identify 1,800 individuals who meet eligibility criteria and consent to participation.

Quantitative analysis of 1,800 interviews will be conducted using SAS. Findings of the NHBS-Trans pilot study will be used by CDC and local health department staff to assess the feasibility of using NHBS infrastructure to monitor the prevalence of HIV among transgender women of color and to strengthen understanding of the behavioral and environmental HIV risk factors that contribute to the disproportionately high prevalence of HIV within this population. Improved surveillance of transgender women is necessary to help CDC and health departments identify areas for community-level interventions, track the progress of communities in implementing change, and evaluate interventions that seek to reduce HIV risk factors and increase engagement in HIV prevention and care.

Participation in the NHBS-Trans study is voluntary and there are no costs to respondents other than their time. The total estimated annualized burden hours are 713.

Estimated Annualized Burden Hours
Type of respondents | Form name | Number of respondents | Number of responses per respondent | Average burden per response (in hours)
Transgender Women >18 years old | Eligibility Screener | 990 | 1 | 5/60
Eligible and consenting participants | NHBS-Trans Interview | 900 | 1 | 40/60
Peer Recruiters | Recruiter Debriefing Form | 900 | 1 | 2/60

Jeffrey M. Zirger,
Acting Lead, Information Collection Review Office, Office of Scientific Integrity, Office of Science, Centers for Disease Control and Prevention.

[FR Doc. 2019-01322 Filed 2-6-19; 8:45 am]

BILLING CODE 4163-18-P